DEPARTMENT OF COMMERCE

National Oceanic and Atmospheric Administration

RIN 0648-XV98

Permits; Foreign Fishing

AGENCY: National Marine Fisheries Service (NMFS), National Oceanic and Atmospheric Administration (NOAA), Commerce.

ACTION: Notice of receipt of a permit application for transshipment by foreign vessels; request for comments.

SUMMARY: NMFS publishes for public review and comment information regarding a permit application for transshipment of Atlantic herring by Canadian vessels, submitted under provisions of the Magnuson-Stevens Fishery Conservation and Management Act (Magnuson-Stevens Act).

DATES: Written comments must be received by May 6, 2010.

ADDRESSES: Send comments to Mi Ae Kim, Trade and Marine Stewardship Division, Office of International Affairs, NMFS, 1315 East-West Highway, Silver Spring, MD 20910. Comments on this notice may also be submitted by e-mail to nmfs.foreignfishing@noaa.gov. Include in the subject line the following document identifier: RIN 0648-XV98.

FOR FURTHER INFORMATION CONTACT: Mi Ae Kim at (301) 713-9090 or by email at mi.ae.kim@noaa.gov.

SUPPLEMENTARY INFORMATION:

Background

Section 204(d) of the Magnuson-Stevens Act (16 U.S.C. 1824(d)) authorizes the Secretary of Commerce (Secretary) to issue a transshipment permit authorizing a vessel other than a vessel of the United States to engage in fishing consisting solely of transporting fish or fish products at sea from a point within the United States Exclusive Economic Zone (EEZ) or, with the concurrence of a state, within the boundaries of that state to a point outside the United States. In addition, Public Law 104-297, section 105(e) directs the Secretary to issue section 204(d) permits for up to 14 Canadian transport vessels to receive Atlantic herring harvested by United States fishermen and to be used in sardine processing. Transshipment must occur from within the boundaries of the State of Maine or within the portion of the EEZ east of the line 69 degrees 30 minutes west and within 12 nautical miles from the seaward boundary of that State.

Section 204(d)(3)(D) of the Magnuson-Stevens Act provides that an application may not be approved until the Secretary determines that “no owner or operator of a vessel of the United States which has adequate capacity to perform the transportation for which the application is submitted has indicated ... an interest in performing the transportation at fair and reasonable rates.” NMFS is publishing this notice as part of its effort to make such a determination with respect to the application described below.

Section 204(d)(3)(B) of the Magnuson-Stevens Act provides that an application may not be approved until the Secretary determines that “the applicant will comply with the requirements described in section 201(c)(2) with respect to activities authorized by any permit issued pursuant to the application.” Section 201(c)(2) identifies multiple requirements related to monitoring, compliance, and enforcement, such as allowing authorized officers to board and inspect vessels, installation and use of position-fixing and identification equipment, and stationing of observers.

Summary of Application

NMFS received an application requesting authorization for 10 Canadian transport vessels to receive transfers of herring from United States purse seine vessels, stop seines, and weirs for the purpose of transporting the herring to Canada for processing. The transshipment operations will occur within the boundaries of the State of Maine or within the portion of the EEZ east of the line 69°30' W longitude and within 12 nautical miles from the seaward boundary of that State.

Dated: April 16, 2010.
Rebecca Lent,
Director, Office of International Affairs, National Marine Fisheries Service.

[FR Doc. 2010-9347 Filed 4-21-10; 8:45 am]

BILLING CODE 3510-22-S